DEPARTMENT OF THE INTERIOR

Fish and Wildlife Service

Incidental Take of Threatened Species for the Livermore County Landowners Group, Larimer County, CO

AGENCY: Fish and Wildlife Service, Interior.

ACTION: Notice of issuance of permits.

SUMMARY: The U.S. Fish and Wildlife Service (Service) has issued the following permits.

ADDRESSES: Additional information on these permit actions may be requested from the U.S. Fish and Wildlife Service Regional Office, P.O. Box 25486, Denver Federal Center, Denver, Colorado 80225-0486.

FOR FURTHER INFORMATION CONTACT: Bridget Fahey, Division of Endangered Species, (303) 236-4258.

SUPPLEMENTARY INFORMATION: On January 13, 2004, the Service published a notice in the Federal Register (69 FR 1998) of receipt of an application from the Livermore Area Landowners Group, The Nature Conservancy, and the State of Colorado for permits to incidentally take, under section 10(a)(1)(B) of the Endangered Species Act of 1973 (16 U.S.C. 1531 et seq.) as amended, Preble's meadow jumping mouse (Zapus hudsonius preblei), under the terms of the Livermore Area Habitat Conservation Plan.

Notice is hereby given that on November 29, 2005, as authorized by the provisions of the Endangered Species Act, the Service issued permits to Al Johnson of the Livermore Area Landowners Group (TE-079479-0) and The Nature Conservancy (TE-115609-0) with certain conditions set forth therein. The permits were granted only after the Service determined that they were applied for in good faith, that granting the permits will not be to the disadvantage of the threatened species, and that the covered activities will be consistent with the purposes and policy set forth in the Endangered Species Act, as amended.

Dated: December 20, 2005.
Richard A. Coleman,
Acting Deputy Regional Director, Denver, Colorado.

[FR Doc. E6-301 Filed 1-12-06; 8:45 am]

BILLING CODE 4310-55-P